DEPARTMENT OF THE INTERIOR

National Park Service

[NPS-WASO-NAGPRA-NPS0034164; PPWOCRADN0-PCU00RP14.R50000]

Notice of Inventory Completion: Peabody Museum of Natural History, Yale University, New Haven, CT

AGENCY: National Park Service, Interior.

ACTION: Notice.

SUMMARY: The Peabody Museum of Natural History (hereafter the Yale Peabody Museum), has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice who wish to request transfer of control of these human remains and associated funerary objects should submit a written request to the Yale Peabody Museum. If no additional requestors come forward, transfer of control of the human remains and associated funerary objects to the lineal descendants, Indian Tribes, or Native Hawaiian organizations stated in this notice may proceed.

DATES: Lineal descendants or representatives of any Indian Tribe or Native Hawaiian organization not identified in this notice who wish to request transfer of control of these human remains and associated funerary objects should submit a written request with information in support of the request to the Yale Peabody Museum at the address in this notice by August 11, 2022.

FOR FURTHER INFORMATION CONTACT: Professor David Skelly, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3003, of the completion of an inventory of human remains and associated funerary objects under the control of the Peabody Museum of Natural History, Yale University, New Haven, CT. The human remains and associated funerary objects were removed from Warren County, MS.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Yale Peabody Museum professional staff in consultation with representatives of the Alabama-Coushatta Tribe of Texas (previously listed as Alabama-Coushatta Tribes of Texas); Alabama-Quassarte Tribal Town; Coushatta Tribe of Louisiana; Eastern Band of Cherokee Indians; Jena Band of Choctaw Indians; Miami Tribe of Oklahoma; Mississippi Band of Choctaw Indians; Quapaw Nation (previously listed as The Quapaw Tribe of Indians); The Chickasaw Nation; The Choctaw Nation of Oklahoma; The Muscogee (Creek) Nation; The Osage Nation (previously listed as Osage Tribe); and the Tunica-Biloxi Indian Tribe (hereafter referred to as “The Tribes”).

History and Description of the Remains

Sometime prior to 1869, human remains representing, at minimum, one individual were removed by George W. Gould from a mound near Warrenton in Warren County, MS. They were donated to the Yale Peabody Museum in 1869. The human remains belong to an adult of undetermined sex. No known individual was identified. The 81 associated funerary objects are 10 celts and chisels, two adzes, three chunkey stones, one hammerstone, 30 projectile points, five potsherds, 18 shark teeth, four pebbles, two ornamental disk fragments, and six ceramic vessels.

Historical, geographical, and archeological documentation demonstrate that the area of Warrenton was home to the Plaquemine cultures who were indigenous to the Natchez Bluffs region of Mississippi circa. A.D. 1000-1600. Excavation records and catalog documentation demonstrate that the human remains and cultural items were known to be Native American at the time of their removal and subsequent donation; archeological evidence demonstrates a likely connection between these items and those found at various recorded Plaquemine cultural period sites; and the associated funerary objects—specifically the whole vessels—are consistent with the stylistic features of Late Plaquemine vessels found at the Glass Site (22Wr502), a neighboring mound complex located approximately five miles east of Warrenton. Based on parameters previously determined by the Mississippi Department of Archives and History and The Tribes, a relationship of shared group identity can be established between The Tribes and the earlier group to which the human remains and associated objects belong.

Determinations Made by the Peabody Museum of Natural History, Yale University

Officials of the Peabody Museum of Natural History, Yale University have determined that:

• Pursuant to 25 U.S.C. 3001(9), the human remains described in this notice represent the physical remains of one individual of Native American ancestry.

• Pursuant to 25 U.S.C. 3001(3)(A), the 81 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice who wish to request transfer of control of these human remains and associated funerary objects should submit a written request with information in support of the request to Professor David Skelly, Director, Yale Peabody Museum of Natural History, P.O. Box 208118, New Haven, CT 06520-8118, telephone (203) 432-3752, by August 11, 2022. After that date, if no additional requestors have come forward, transfer of control of the human remains and associated funerary objects to The Tribes may proceed.

The Peabody Museum of Natural History, Yale University is responsible for notifying The Tribes that this notice has been published.

Dated: June 29, 2022.
Melanie O'Brien,
Manager, National NAGPRA Program.

[FR Doc. 2022-14780 Filed 7-11-22; 8:45 am]

BILLING CODE 4312-52-P